OFFICE OF MANAGEMENT AND BUDGET

Revised Information Quality Bulletin on Peer Review

AGENCY: Office of Management and Budget, Executive Office of the President.

ACTION: Notice and request for comment: correction.

SUMMARY: This Notice provides the contact information and suggested approach for submitting comments on the “Revised Information Quality Bulletin on Peer Review,” published in the Federal Register on April 28, 2004 (69 FR 23230); this information was inadvertently omitted from the April 28th notice. As that notice indicated, interested parties should submit comments on or before May 28, 2004, to OMB's Office of Information and Regulatory Affairs. The April 28th notice contains the text of the proposed “Revised Information Quality Bulletin on Peer Review” as well as background and explanatory information.

ADDRESSES: Due to potential delays in OMB's receipt and processing of mail, respondents are strongly encouraged to submit comments electronically to ensure timely receipt. We cannot guarantee that comments mailed will be received before the comment closing date. Electronic comments may be submitted to: OMB_peer_review@omb.eop.gov. Please put the full body of your comments in the text of the electronic message and as an attachment. Please include your name, title, organization, postal address, telephone number, and e-mail address in the text of the message. Comments may also be submitted via facsimile to (202) 395-7245. Comments may be mailed to Dr. Margo Schwab, Office of Information and Regulatory Affairs, Office of Management and Budget, 725 17th Street, NW., New Executive Office Building, Room 10201, Washington, DC 20503.

FOR FURTHER INFORMATION CONTACT: Dr. Margo Schwab, Office of Information and Regulatory Affairs, Office of Management and Budget, 725 17th Street, NW., New Executive Office Building, Room 10201, Washington, DC 20503 (tel. (202) 395-3093).

John D. Graham,
Administrator, Office of Information and Regulatory Affairs.

[FR Doc. 04-10633 Filed 5-10-04; 8:45 am]

BILLING CODE 3110-01-P